FEDERAL COMMUNICATIONS COMMISSION

Media Security and Reliability Council

AGENCY: Federal Communications Commission.

ACTION: Notice of meeting of Media Security and Reliability Council.

SUMMARY: In accordance with the Federal Advisory Committee Act, Public Law 92-463, as amended, this notice advises interested persons that the Advisory Committee, The Media Security and Reliability Council (MSRC) will be holding its semiannual meeting at the Federal Communications Commission in Washington, DC.

DATES: June 2, 2005 at 10 a.m. to 11:30 a.m.

ADDRESSES: Federal Communications Commission, Commission Meeting Room, Room TW-C305, 445 12th St. SW., Washington, DC 20554.

FOR FURTHER INFORMATION CONTACT: Barbara Kreisman, Designated Federal Officer of MSRC, 445 12th St. SW., Washington, DC 20554; telephone (202) 418-1600, e-mail Barbara.Kreisman@fcc.gov.

Press Contact, Meribeth McCarrick, Office of Media Relations, 202-418-0654, meribeth.mccarrick@fcc.gov.

SUPPLEMENTARY INFORMATION: The Council was established by the Federal Communications Commission to bring together the leaders of United States mass media companies, cable television and satellite service providers, trade associations, public safety representatives, manufacturers and other related entities. MSRC II is chaired by David J. Barrett, President and Chief Executive Officer of Hearst-Argyle Television, Inc. MSRC was formed following the events of September 11, 2001, in order to study, develop and report on best practices designed to assure the optimal reliability, robustness and security of the broadcast and multichannel video programming distribution industries.

The agenda for the meeting is as follows: The Council will review progress reports of its two working groups: The Toolkit Development Working Group and the Local Coordination Working Group. Information concerning the activities of MSRC can be reviewed at www.fcc.gov/MSRC. Material relevant to the June 2 meeting will be posted there.

Members of the general public may attend the meeting. The Federal Communications Commission will attempt to accommodate as many people as possible. However, admittance will be limited to the seating available. A live RealAudio feed will be available over the Internet; information on how to tune in can be found at the Commission's Web site www.fcc.gov. The public may submit written comments to the Council's designated Federal Officer before the meeting.

Federal Communications Commission.
William F. Caton,
Deputy Secretary.

[FR Doc. 05-9410 Filed 5-10-05; 8:45 am]

BILLING CODE 6712-01-P